NUCLEAR REGULATORY COMMISSION

[Project No. 753, NRC-2012-0019]

Notice of Opportunity for Public Comment on the Proposed Models for Plant-Specific Adoption of Technical Specifications Task Force Traveler TSTF-432, Revision 1, “Change in Technical Specifications End States (WCAP-16294)” Using the Consolidated Line Item Improvement Process

AGENCY: Nuclear Regulatory Commission.

ACTION: Notice of opportunity for public comment.

SUMMARY: The U.S. Nuclear Regulatory Commission (NRC) is requesting public comment on the proposed model safety evaluation (SE) for plant-specific adoption of Technical Specifications (TS) Task Force (TSTF) Traveler TSTF-432, Revision 1, “Change in Technical Specifications End States (WCAP-16294).” TSTF-432, Revision 1, is available in the Agencywide Documents Access and Management System (ADAMS) under Accession Number ML103360003; the model application is available in ADAMS under Accession Number ML113202614. The proposed model SE for plant-specific adoption of TSTF-432, Revision 1, is available electronically under ADAMS Accession Number ML112991526.

The proposed change revises the Improved Standard Technical Specification (ISTS), NUREG-1431, “Standard Technical Specifications Westinghouse Plants,” to permit, for some systems, entry into a hot shutdown (Mode 4) end state rather than a cold shutdown (Mode 5) end state. The model SE will facilitate expedited approval of plant-specific adoption of TSTF-432, Revision 1. This TS improvement is part of the consolidated line item improvement process (CLIIP).

DATES: Comment period expires on February 29, 2012. Comments received after this date will be considered, if it is practical to do so, but the Commission is able to ensure consideration only for comments received on or before this date.

ADDRESSES: Please include Docket ID NRC-2012-0019 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2012-0019. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov.

• Federal Rulemaking Web Site: Public comments and supporting materials related to this notice can be found at http://www.regulations.gov by searching on Docket ID NRC-2012-0019.

FOR FURTHER INFORMATION CONTACT: Ms. Michelle C. Honcharik, Senior Project Manager, Licensing Processes Branch, Mail Stop: O-12D20, Division of Policy and Rulemaking, Office of Nuclear Reactor Regulation, U.S. Nuclear Regulatory Commission, Washington, DC, 20555-0001; telephone (301) 415-1774 or email at michelle.honcharik@nrc.gov. For technical questions, please contact Ms. Kristy Bucholtz, Reactor Systems Engineer, Technical Specifications Branch, Mail Stop: O-7C2A, Division of Safety Systems, Office of Nuclear Reactor Regulation, U.S. Nuclear Regulatory Commission, Washington, DC, 20555-0001; telephone (301) 415-1295 or email at kristy.bucholtz@nrc.gov.

TSTF-432, Revision 1, is applicable to Westinghouse-designed pressurized water reactor (PWR) plants. The proposed changes revise the ISTS to permit, for some systems, entry into a hot shutdown (Mode 4) end state rather than a cold shutdown (Mode 5) end state. These changes are associated with the implementation of Topical Report WCAP-16294-NP-A, Revision 1, “Risk-Informed Evaluation of Changes to Tech Spec Required Action Endstates for Westinghouse NSSS PWRs,” dated June 2010 (ADAMS Package Accession Number ML103430264). TS Bases changes that reflect the proposed changes are included.

This notice provides an opportunity for the public to comment on proposed changes to the ISTS after a preliminary assessment and finding by the NRC staff that the agency will likely offer the changes for adoption by licensees. This notice solicits comment on proposed changes to the ISTS, which if implemented by a licensee will modify the plant-specific TS. The NRC staff will evaluate any comments received for the proposed changes and reconsider the changes or announce the availability of the changes for adoption by licensees as part of the CLIIP. Licensees opting to apply for this TS change are responsible for reviewing the NRC staff's SE., and the applicable technical justifications, providing any necessary plant-specific information, and assessing the completeness and accuracy of their license amendment request (LAR). The NRC will process each amendment application responding to the notice of availability according to applicable NRC rules and procedures.

The proposed changes do not prevent licensees from requesting an alternate approach or proposing changes other than those proposed in TSTF-432, Revision 1. However, significant deviations from the approach recommended in this notice or the inclusion of additional changes to the license require additional NRC staff review. This may increase the time and resources needed for the review or result in NRC staff rejection of the LAR. Licensees desiring significant deviations or additional changes should instead submit an LAR that does not claim to adopt TSTF-432, Revision 1.

Dated at Rockville, Maryland, this 17th day of January 2012.
For the Nuclear Regulatory Commission.
John R. Jolicoeur,
Chief, Licensing Processes Branch, Division of Policy and Rulemaking, Office of Nuclear Reactor Regulation.

[FR Doc. 2012-1912 Filed 1-27-12; 8:45 am]

BILLING CODE 7590-01-P